DEPARTMENT OF EDUCATION

Special Education Parent Information Centers—Parent Training and Information Centers; Corrections and Reopening

AGENCY: Office of Special Education and Rehabilitative Services, Department of Education.

ACTION: Notice; corrections and reopening.

SUMMARY: On December 16, 2024, the Department of Education (Department) published in the Federal Register a notice inviting applications (NIA) for fiscal year (FY) 2025 for the Special Education Parent Information Centers—Parent Training and Information Centers (PTIs) competition. The NIA established a deadline date of March 3, 2025, for the transmittal of applications. The Department is correcting the NIA by removing certain application requirements and replacing the selection criteria. This notice also reopens the competition and extends the deadline date for transmittal of applications until March 26, 2025, and extends the deadline for intergovernmental review until May 25, 2025. All other information in the NIA remains the same.

DATES: These corrections are applicable on March 20, 2025.

Deadline for Transmittal of Applications: March 26, 2025.

Deadline for Intergovernmental Review: May 25, 2025.

FOR FURTHER INFORMATION CONTACT: Carmen Sanchez, U.S. Department of Education, 400 Maryland Avenue SW, Washington, DC 20202. Telephone: (202) 987-0117. Email: Carmen.Sanchez@ed.gov.

If you are deaf, hard of hearing, or have a speech disability and wish to access telecommunications relay services, please dial 7-1-1.

SUPPLEMENTARY INFORMATION: On December 16, 2024, the Department published an NIA for the FY 2025 PTIs competition in the Federal Register (89 FR 101589). The Department is correcting the NIA by removing certain application requirements, replacing the selection criteria section, reopening the competition and extending the deadline for transmittal of applications, and extending the deadline for intergovernmental review for the 2025 PTI competition. The Department is correcting this NIA as part of a comprehensive review of recently published FY 2025 NIAs. This reevaluation seeks to ensure that all priorities and requirements for the Department's FY 2025 competitions align with the objectives established by the Trump Administration while fostering consistency across all grant programs. Additionally, the Department is dedicated to optimizing the impact of our grant competitions on students and families, as well as enhancing the economic effectiveness of federal education funding. All other information in the NIA remains the same.

The Department will not consider applications submitted prior to March 20, 2025. Applicants that have already timely submitted an application under the 2025 PTI competition must resubmit an updated application on or before the reopened application deadline of March 26, 2025, for the application to be reviewed. Program staff will endeavor to notify applicants that have already submitted an application of the requirement to submit an updated application. The Department will consider the application that is last submitted and timely received by 11:59:59 p.m., Eastern Time, on March 26, 2025.

Program Authority: 20 U.S.C. 1471 and 1481.

Corrections

In FR Doc. 2024-29530, published in the Federal Register on December 16, 2024 (89 FR 101589), we make the following corrections:

1. On page 101589, in the middle column, revise the text under DATES as follows:

Application Available: December 16, 2024.

Application Deadline: March 26, 2025.

Deadline for Intergovernmental Review: May 25, 2025.

2. On page 101591, in the third column, in the third line from the top, replace the words “Quality of project services” with the words “Quality of the project design”.

3. On page 101592, in the second column, in paragraph (d), make the following corrections:

a. In the third and fourth lines, replace the words “Quality of project personnel and adequacy of resources,” with “Adequacy of resources,”.

b. Revise paragraph (d)(3) to read as follows: “(3) The project will make positive efforts to employ and advance in employment qualified individuals with disabilities; and”.

4. On page 101592, in the second column, in paragraph (e), make the following corrections:

a. Remove paragraph (5).

b. Redesignate paragraph (6) as paragraph (5).

c. Redesignate paragraph (7) as paragraph (6).

5. On page 101592, beginning in the third column and carrying over to the third column on page 101593, through but not including the heading “Performance Measures:”, remove the Selection Criteria section, and add, in its place, the following:

“Selection Criteria: The selection criteria for this competition are from 34 CFR 75.210 and are as follows:

(a) Significance. (15 points)

(1) The Secretary considers the significance of the proposed project.

(2) In determining the significance of the proposed project, the Secretary considers the following factors:

(i) The extent to which the proposed project will provide support, resources, or services; or otherwise address the needs of the target population, including addressing the needs of underserved populations most affected by the issue, challenge, or opportunity, to be addressed by the proposed project and close gaps in educational opportunity.

(ii) The likely utility of the resources (such as materials, processes, techniques, or data infrastructure) that will result from the proposed project, including the potential for effective use in a variety of conditions, populations, or settings.

(iii) The extent to which the proposed project is likely to build local, State, regional, or national capacity to provide, improve, sustain, or expand training or services that address the needs of underserved populations.

(b) Quality of project design. (35 points)

(1) The Secretary considers the quality of the design of the proposed project.

(2) In determining the quality of the design of the proposed project, the Secretary considers the following factors:

(i) The extent to which the proposed project demonstrates a rationale that is aligned with the purposes of the grant program.

(ii) The likely benefit to the intended recipients, as indicated by the logic model or other conceptual framework, of the services to be provided.

(iii) The extent to which the goals, objectives, and outcomes to be achieved by the proposed project are clearly specified, measurable, and ambitious yet achievable within the project period, and aligned with the purposes of the grant program.

(iv) The extent to which the services to be provided by the proposed project were determined with input from the community to be served to ensure that they are appropriate and responsive to the needs of the intended recipients or beneficiaries, including underserved populations, of those services.

(v) The extent to which the proposed project is informed by similar past projects implemented by the applicant with demonstrated results.

(vi) The extent to which the proposed project will include coordination with other Federal investments, as well as appropriate agencies and organizations providing similar services to the target population.

(vii) The extent to which the services to be provided by the proposed project involve the use of efficient strategies, including the use of technology, as appropriate, and the leveraging of non-project resources.

(c) Quality of the project evaluation or other evidence-building. (15 points)

(1) The Secretary considers the quality of the evaluation or other evidence-building of the proposed project.

(2) In determining the quality of the evaluation or other evidence-building, the Secretary considers the following factors:

(i) The extent to which the methods of evaluation or other evidence-building are appropriate to the context within which the project operates and the target population of the proposed project.

(ii) The extent to which the methods of evaluation or other evidence-building will provide performance feedback and provide formative, diagnostic, or interim data that is a periodic assessment of progress toward achieving intended outcomes.

(iii) The extent to which the proposed project proposes specific, measurable targets, connected to strategies, activities, resources, outputs, and outcomes, and uses reliable administrative data to measure progress and inform continuous improvement.

(d) Adequacy of resources. (20 points)

(1) The Secretary considers the adequacy of resources for the proposed project.

(2) In determining the adequacy of resources for the proposed project, the Secretary considers the following factors:

(i) The extent to which the project director or principal investigator, when hired, has the qualifications required for the project, including formal training or work experience in fields related to the objectives of the project and experience in designing, managing, or implementing similar projects for the target population to be served by the project.

(ii) The extent to which the key personnel in the project, when hired, have the qualifications required for the proposed project, including formal training or work experience in fields related to the objectives of the project, and represent or have lived experiences of the target population.

(iii) The adequacy of support for the project, including facilities, equipment, supplies, and other resources, from the applicant or the lead applicant organization.

(iv) The extent to which the costs are reasonable in relation to the number of persons to be served, the depth and intensity of services, and the anticipated results and benefits.

(e) Quality of the management plan. (15 points)

(1) The Secretary considers the quality of the management plan for the proposed project.

(2) In determining the quality of the management plan for the proposed project, the Secretary considers the following factors:

(i) The feasibility of the management plan to achieve project objectives and goals on time and within budget, including clearly defined responsibilities, timelines, and milestones for accomplishing project tasks.

(ii) The adequacy of mechanisms for ensuring high-quality and accessible products and services from the proposed project for the target population.

(iii) The extent to which the time commitments of the project director and principal investigator and other key project personnel are appropriate and adequate to meet the objectives of the proposed project.”

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Erin McHugh,
Deputy Assistant Secretary for Management and Planning and Acting Assistant Secretary for Special Education and Rehabilitative Services.

[FR Doc. 2025-04087 Filed 3-19-25; 8:45 am]

BILLING CODE 4000-01-P